DEPARTMENT OF HEALTH AND HUMAN SERVICES

National Institutes of Health

Proposed Collection; Comment Request; National Survey of Nonhuman Primate Research Use

SUMMARY: In compliance with the requirement of Section 3506(c)(2)(A) of the Paperwork Reduction Act of 1995, for opportunity for public comment on proposed data collection projects, the National Center for Research Resources (NCRR), the National Institutes of Health (NIH) will publish periodic summaries of proposed project to be submitted to the Office of Management and Budget (OMB) for review and approval.

Proposed Collection

Title: The National Survey of Nonhuman Primate Research Use. Type of Information Collection Request: NEW. Need and Use of Information Collection: The National Center for Research Resources (NCRR) seeks to evaluate the support that it provides investigators for scientific research involving nonhuman primates. NCRR wants to ensure that the NIH support structure for nonhuman primate research permits all investigators with meritorious research proposals to have access to scarce animal and specimen resources. NCRR will collect information using an Internet survey. The online survey will be implemented using SSL (Secure Socket Layer) encryption technology and password access. NCRR will use first-class mail and e-mail messages to advise investigators that they have been selected to participate in the survey. Frequency of Response: One time survey. Affected Public: Not-for-profit institutions. Type of Respondents: NIH-supported investigators. The annual reporting burden is as follows: Estimated Number of Respondents: 878; Estimated Number of Responses per Respondent: 1; Estimated Burden Hours Per Response: 30; Estimated Total Annual Burden Hours: 439. The annualized cost to respondents is estimated at $178,588. There are no Capital Cost, Operating Cost and/or Maintenance Costs to report.

Requests for Comments

Written comments and/or suggestions from the public and affected agencies are invited on one or more of the following points: (1) Whether the proposed collection of information is necessary for the proper performance of the functions of the agency, including whether the information shall have practical utility; (2) The accuracy of the agency's estimate of the burden (including hours and cost) of the proposed information collection; (3) Ways to enhance the quality, utility, and clarity of the information to be collected; and (4) Ways to minimize the burden of the collection of information on respondents, including through the use of automated collection techniques or other forms of information technology.

FOR FURTHER INFORMATION CONTACT: To request more information on the proposed project or to obtain a copy of the data collection plans and instruments, contact: Patricia Newman, Program Analyst, NCRR Office of Science Policy, 6705 Rockledge Drive, Suite 5046, Bethesda, MD 20892-7965, or call non-toll-free number (301) 435-0866 or E-mail your request, including your address to: PattyV@ncrr.nih.gov

Comments Due Date: Comments regarding this information collection are best assured of having their full effect if received within 60-days of the date of this publication.

Dated: August 31, 2000.
Louise E. Ramm,
Deputy Director, NCRR.

[FR Doc. 00-23314 Filed 9-11-00; 8:45 am]

BILLING CODE 4140-01-M